DEPARTMENT OF JUSTICE

Office of Justice Programs

Agency Information Collection Activities: Proposed Collection; Comments Requested

ACTION: 60-Day emergency notice of information collection under review: Reinstatement, with change, of a previously approved collection for which approval has expired; application for public safety officers' educational assistance.

The Department of Justice, Office of Justice Programs, Bureau of Justice Assistance has submitted the following information collection request to the Office of Management and Budget (OMB) for review and clearance in accordance with emergency review procedures of the Paperwork Reduction Act of 1995. OMB approval has been requested by October 28, 2003. The proposed information collection is published to obtain comments from the public and affected agencies. If granted, the emergency approval is only valid for 180 days. Comments should be directed to OMB, Office of Information and Regulation Affairs, Attention: Department of Justice Desk Officer, (202) 395-5806, Washington, DC 20503. Comments are encouraged and will be accepted for 60 days until December 19, 2003.

During the first 60 days of this same review period, a regular review of this information collection is also being undertaken. All comments and suggestions, or questions regarding additional information, to include obtaining a copy of the proposed information collection instrument with instructions, should be directed to Sharon Williams, via e-mail, SharonW@ojp.usdoj.gov, or via facsimile, (202) 307-0036.

Written comments and suggestions from the public and affected agencies concerning the proposed collection of information are encouraged. Your comments should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information

(1) Type of information collection: Reinstatement, with Change, of a Previously Approved Collection for which Approval has Expired.

(2) The title of the form/collection: Application for Public Safety Officers' Educational Assistance.

(3) The agency form number, if any, and the applicable component of the department sponsoring the collection: Form Number: OJP Form Number 1240/20. Bureau of Justice Assistance, Office of Justice Programs, Department of Justice.

(4) Affected public who will be asked or required to respond, as well as a brief abstract: Primary: Individuals or households. Other: None. The agency requires the information requested on this application to determine if individuals are eligible to receive educational assistance through the Public Safety Officers' Educational Assistance (PSOEA) Program, as established by the PSOEA Act of 1998 (Pub. L. 104-238). Respondents who complete the application may be spouses or eligible children of a public safety officer who was killed or permanently injured in the line of duty.

(5) An estimate of the total number of respondents and the amount of time estimated for an average respondent to respond/reply: It is estimated that 150 respondents will complete the application in approximately 20 minutes.

(6) An estimate of the total public burden (in hours) associated with the collection: The estimated total public burden associated with this application is 50 hours.

If additional information is required contact: Brenda E. Dyer, Department Deputy Clearance Officer, Planning and Policy Staff, Justice Management Division, United States Department of Justice, 601 D Street, NW., Patrick Henry Building, Suite 1600, NW., Washington, DC 20530.

Dated: October 14, 2003.
Brenda E. Dyer,
Department Deputy Clearance Officer, United States Department of Justice.

[FR Doc. 03-26370 Filed 10-17-03; 8:45 am]

BILLING CODE 4410-18-M